DEPARTMENT OF COMMERCE

Foreign-Trade Zones Board

[Docket 51-2007]

Foreign-Trade Zone 104—Savannah, GA; Request for Manufacturing Authority, Fuji Vegetable Oil, Inc., (Refined Sunflower and Vegetable Oil Products), Savannah, GA

An application has been submitted to the Foreign-Trade Zones Board (the Board) by the Savannah Airport Commission, grantee of FTZ 104, pursuant to section 400.28(a)(2) of the Board's regulations (15 CFR part 400), requesting authority on behalf of Fuji Vegetable Oil, Inc. (FVO), to refine sunflower oil and manufacture vegetable oil products under FTZ procedures within FTZ 104. The application was formally filed on December 14, 2007.

The FVO facility (89 employees) is located at 120 Brampton Road (within FTZ 104-Site 2), Savannah Georgia, and used to produce refined sunflower oil and, vegetable oil and fat products (up to 120,000 tons annually), including cocoa butter equivalents, for the commercial food industry. Some foreign sunflower oil would be processed (up to 20 percent of total purchases), duty rate − 1.7cents/kg. + 3.4%.

There are no inverted tariffs related to FVO's finished products (duty rates − 1.7cents/kg. + 3.4% and 8.8 cents/kg.). FTZ procedures would exempt FVO from Customs duty payments on the foreign sunflower oil used in production for export (60% of shipments). The company could also realize duty deferral on shipments for U.S. consumption and certain logistical/supply chain savings. The application indicates that the savings from FTZ procedures would help improve the facility's international competitiveness.

In accordance with the Board's regulations, a member of the FTZ Staff has been designated examiner to investigate the application and report to the Board.

Public comment is invited from interested parties. Submissions (original and 3 copies) shall be addressed to the Board's Executive Secretary at the following address : Office of the Executive Secretary, Foreign-Trade Zones Board, Room 2111, U.S. Department of Commerce, 1401 Constitution Ave., NW., Washington, DC 20230-0002. The closing period for receipt of comments is February 25, 2008. Rebuttal comments in response to material submitted during the foregoing period may be submitted during the subsequent 15-day period (to March 11, 2008).

A copy of the request will be available for public inspection at the Office of the Foreign-Trade Zones Board's Executive Secretary at the address listed above. For further information, contact Diane Finver at: Diane_Finver@ita.doc.gov, or (202) 482-1367.

Dated: December 14, 2007.
Andrew McGilvray,
Executive Secretary.

[FR Doc. E7-25013 Filed 12-26-07; 8:45 am]

BILLING CODE 3510-DS-P